GENERAL SERVICES ADMINISTRATION

[OMB Control No. 3090-0043]

Information Collection; GSA Form 3357, Appraisal of Fair Annual Parking Rate Per Space for Standard Level User Charge

AGENCY: Public Buildings Service, GSA.

ACTION: Notice of request for comments regarding a renewal to an existing OMB clearance.

SUMMARY: Under the provisions of the Paperwork Reduction Act of 1995 (44 U.S.C. Chapter 35), the General Services Administration has submitted to the Office of Management and Budget (OMB) a request to review and approve a renewal of a currently approved information collection requirement regarding appraisal of fair annual parking rate per space for standard level user charge. A request for public comments was published in the Federal Register at 69 FR 53070, August 21, 2004. No comments were received.

Public comments are particularly invited on: Whether this collection of information is necessary and whether it will have practical utility; whether our estimate of the public burden of this collection of information is accurate, and based on valid assumptions and methodology; ways to enhance the quality, utility, and clarity of the information to be collected.

DATES: Submit comments on or before: January 26, 2005.

FOR FURTHER INFORMATION CONTACT: Robert A. Yevoli, Policy and Analysis Division, at telephone (202) 219-1403 or via e-mail to robert.yevoli@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (V), General Services Administration, Room 4035, 1800 F Street, NW., Washington, DC 20405. Please cite OMB Control No. 3090-0043, Appraisal of Fair Annual Parking Rate Per Space for Standard Level User Charge; GSA Form 3357, in all correspondence.

SUPPLEMENTARY INFORMATION:

A. Purpose

GSA Form 3357 is needed by GSA contract and staff appraisers who use the form for estimating parking rates assessed on Federal agencies occupying space in GSA owned or controlled buildings.

B. Annual Reporting Burden

Respondents: 260.

Responses Per Respondent: 5.

Total Responses: 1300.

Hours Per Response: 1.6.

Total Burden Hours: 2,080.

Obtaining Copies of Proposals: Requesters may obtain a copy of the information collection documents from the General Services Administration, Regulatory Secretariat (V), 1800 F Street, NW., Room 4035, Washington, DC 20405, telephone (202) 208-7312. Please cite OMB Control No. 3090-0043, GSA Form 3357, Appraisal of Fair Annual Parking Rate Per Space for Standard Level User Charge, in all correspondence.

Dated: December 17, 2004.
Michael W. Carleton,
Chief Information Officer.

[FR Doc. 04-28181 Filed 12-23-04; 8:45 am]

BILLING CODE 6820-23-P